DEPARTMENT OF HOMELAND SECURITY

Coast Guard

[Docket No. USCG-2010-0164]

National Boating Safety Advisory Council

AGENCY: Coast Guard, DHS.

ACTION: Notice of Federal Advisory Committee meeting.

SUMMARY: The National Boating Safety Advisory Council and its Subcommittees will meet on April 21, 22, and 23, 2016, in Arlington, VA, to discuss issues relating to recreational boating safety. These meetings will be open to the public.

DATES: The National Boating Safety Advisory Council will meet on Thursday, April 21, 2016, from 8:30 a.m. to 12:00 p.m. and on Saturday, April 23, 2016 from 9:00 a.m. to 12:00 p.m. The Boats and Associated Equipment Subcommittee will meet on April 21, 2016, from 1:30 p.m. to 5:00 p.m. The Recreational Boating Safety Strategic Planning Subcommittee will meet on April 22, 2016, from 9:00 a.m. to 12:00 p.m. The Prevention through People Subcommittee will meet on April 22, 2016, from 1:30 p.m. to 5:00 p.m. Please note that these meetings may conclude early if the National Boating Safety Advisory Council has completed all business.

ADDRESSES: All meetings will be held in the Ballroom of the Holiday Inn Arlington (http://www.hiarlington.com), 4610 N Fairfax Drive, Arlington, VA 22203.

For information on facilities or services for individuals with disabilities or to request special assistance at the meeting, contact Mr. Jeff Ludwig, Alternate Designated Federal Officer, telephone 202-372-1061, or at jeffrey.a.ludwig@uscg.mil.

To facilitate public participation, we are inviting public comment on the issues to be considered by the Council as listed in the “Agenda” section below. Written comments for distribution to Council members must be submitted no later than April 14, 2016, if Council review is desired prior to the meeting, and must be identified by docket number USCG 2010-0164. Written comments may be submitted using the Federal eRulemaking Portal at http://www.regulations.gov. If your material cannot be submitted using http://www.regulations.gov, contact the Alternate Designated Federal Officer for alternate instructions.

Instructions: All submissions received must include the words “Department of Homeland Security” and the docket number of this action, USCG-2010-0164. Comments received will be posted without alteration at http://www.regulations.gov, including any personal information provided. You may review a Privacy Act notice regarding the Federal Docket Management System in the March 24, 2005, issue of the Federal Register (70 FR 15086).

Docket: For access to the docket to read documents or comments related to this notice, go to http://www.regulations.gov insert USCG-2010-0164 in the “Search” box, press Enter, then click the item you wish to view.

FOR FURTHER INFORMATION CONTACT: Mr. Jeff Ludwig, Alternate Designated Federal Officer of the National Boating Safety Advisory Council, telephone (202) 372-1061, or at jeffrey.a.ludwig@uscg.mil.

SUPPLEMENTARY INFORMATION: Notice of this meeting is given under the Federal Advisory Committee Act, (Title 5 U.S.C. Appendix). Congress established the National Boating Safety Advisory Council in the Federal Boat Safety Act of 1971 (Pub. L. 92-75). The National Boating Safety Advisory Council currently operates under the authority of 46 U.S.C. 13110, which requires the Secretary of Homeland Security and the Commandant of the Coast Guard by delegation to consult with the National Boating Safety Advisory Council in prescribing regulations for recreational vessels and associated equipment and on other major safety matters. See 46 U.S.C. 4302(c) and 13110(c).

Meeting Agenda

The agenda for the National Boating Safety Advisory Council meeting is as follows:

Thursday, April 21, 2016

(1) Opening remarks and swearing-in of new members.

(2) Receipt and discussion of the following reports:

(a) Chief, Office of Auxiliary and Boating Safety, Update on the Coast Guard's implementation of National Boating Safety Advisory Council Resolutions and Recreational Boating Safety Program report.

(b) Alternate Designated Federal Officer's report concerning Council administrative and logistical matters.

(3) Subcommittee Session:

Boats and Associated Equipment Subcommittee

Issues to be discussed include alternatives to pyrotechnic visual distress signals; grant projects related to boats and associated equipment; and updates to 33 CFR 181 “Manufacturer Requirements” and 33 CFR 183 “Boats and Associated Equipment.”

(4) Public comment period.

(5) Meeting Recess.

Friday, April 22, 2016

The day will be dedicated to Subcommittee sessions:

(1) Prevention Through People Subcommittee. Issues to be discussed include paddlesports participation, boater education requirements, and licensing requirements for on-water boating safety instruction providers.

(2) Recreational Boating Safety Strategic Planning Subcommittee.

Issues to be discussed include progress on implementation of the 2012-2016 Strategic Plan, and development of the 2017-2021 Strategic Plan.

Saturday, April 23, 2016

The full Council will resume meeting.

(1) Receipt and discussion of the Boats and Associated Equipment, Prevention through People and The Recreational Boating Safety Strategic Planning Subcommittee reports.

(2) Discussion of any recommendations to be made to the Coast Guard.

(3) Public comment period.

(4) Voting on any recommendations to be made to the Coast Guard.

(5) Adjournment of meeting.

There will be a comment period for the National Boating Safety Advisory Council members and a comment period for the public after each report presentation, but before each is voted on by the Council. The Council members will review the information presented on each issue, deliberate on any recommendations presented in the Subcommittees' reports, and formulate recommendations for the Department's consideration.

The meeting agenda and all meeting documentation can be found at: http://homeport.uscg.mil/NBSAC. Alternatively, you may contact Mr. Jeff Ludwig as noted in the FOR FURTHER INFORMATION CONTACT section above.

Public oral comment periods will be held during the meetings after each presentation and at the end of each day. Speakers are requested to limit their comments to 3 minutes. Please note that the public comment periods may end before the time indicated, following the last call for comments. Contact Mr. Jeff Ludwig as indicated above to register as a speaker.

Dated: March 10, 2016.
Verne B. Gifford,
Captain, U.S. Coast Guard, Director of Inspections and Compliance.

[FR Doc. 2016-06426 Filed 3-21-16; 8:45 am]

BILLING CODE 9110-04-P